DEPARTMENT OF ENERGY

Notice of Availability of Response to Comments for 2024 LNG Export Study: Energy, Economic, and Environmental Assessment of U.S. LNG Exports

| Docket Nos.
Venture Global Calcasieu Pass, LLC | 13-69-LNG, 14-88-LNG, & 15-25-LNG
Venture Global Plaquemines LNG, LLC | 16-28-LNG
Commonwealth LNG, LLC | 19-134-LNG
Port Arthur LNG Phase II, LLC | 20-23-LNG
Venture Global CP2 LNG, LLC | 21-131-LNG
New Fortress Energy Louisiana FLNG LLC | 22-39-LNG
NFE Altamira FLNG, S. De R.L.de C.V | 22-110-LNG
Mexico Pacific Limited LLC | 22-167-LNG
Gulfstream LNG Development, LLC | 23-34-LNG
Corpus Christi Liquefaction, LLC; CCL Midscale 8-9, LLC; and Cheniere Marketing, LLC | 23-46-LNG
Lake Charles Exports, LLC | 23-87-LNG
Southern LNG Company, L.L.C | 23-109-LNG
Magnolia LNG, LLC | 23-137-LNG
Sabine Pass Liquefaction, LLC and Sabine Pass Liquefaction Stage V, LLC | 24-27-LNG
Gato Negro Permitium Dos, S.A.P.I. de C.V | 24-87-LNG

AGENCY: Office of Fossil Energy and Carbon Management, Department of Energy.

ACTION: Notice of availability of response to comments.

SUMMARY: The Office of Fossil Energy and Carbon Management (FECM) of the Department of Energy (DOE) gives notice of availability of its response to comments on the 2024 LNG Export Study: Energy, Economic, and Environmental Assessment of U.S. LNG Exports (Study or 2024 LNG Export Study). DOE published a Notice of Availability of the 2024 LNG Export Study and Request for Comments on December 20, 2024, and accepted comments through March 20, 2025. DOE's response to comments and other Study materials are available electronically on DOE/FECM's website at: https://fossil.energy.gov/app/docketindex/docket/index/30.

FOR FURTHER INFORMATION CONTACT: Ms. Beverly Howard, Docket Room Manager, U.S. Department of Energy (FE-34), Office of Regulation, Analysis, and Engagement, Office of Resource Sustainability, Office of Fossil Energy and Carbon Management, Forrestal Building, Room 3E-042, 1000 Independence Avenue SW, Washington, DC 20585, (202) 586-9478, FERGAS@hq.doe.gov.

SUPPLEMENTARY INFORMATION: DOE is responsible for authorizing exports of domestically produced natural gas, including liquefied natural gas (LNG), to foreign countries under section 3 of the Natural Gas Act (NGA).¹ Under the NGA, for an application to export domestically produced natural gas, including LNG, to countries that have no free trade agreement (FTA) with the United States, but with which trade is not prohibited by U.S. law or policy (non-FTA countries), DOE must grant the application, unless it finds that the proposed exportation will not be consistent with the public interest. Since 2012, to inform its public interest determination, DOE has commissioned multiple studies to help assess the various facets of the public interest that are affected by U.S. LNG exports, including how different levels of LNG exports could impact the U.S. economy, environmental and climate considerations, and energy security and international considerations.

¹ 15 U.S.C. 717b. The authority to regulate the imports and exports of natural gas, including LNG, under section 3 of the NGA has been delegated to the Assistant Secretary for FECM in Redelegation Order No. S4-DEL-FE1-2023, issued on April 10, 2023.

On December 20, 2024, DOE published a Notice of Availability of the 2024 LNG Export Study and Request for Comments, opening a 60-day comment period.² As stated in the notice, the purpose of the 2024 LNG Export Study is to provide an update to DOE's prior analyses and understanding of how varying levels of U.S. LNG exports impact and inform DOE's statutory public interest determination in each of the above-listed non-FTA application proceedings and future non-FTA export proceedings.³ DOE invited comments on the Study and how it may inform DOE's public interest analysis. On February 5, 2025, DOE issued a notice extending the comment period through March 20, 2025.⁴ In total, the comment period was open for a period of 90 days.

² 89 FR 104132 (Dec. 20, 2024).

³ 89 FR 104133.

⁴ 90 FR 9018 (Feb. 5, 2025).

DOE received over 100,000 comments on the 2024 LNG Export Study from a variety of sources, including participants in the natural gas industry, industrial users, environmental organizations, think-tanks, academics, and individuals. DOE has evaluated and responded to all relevant substantive issues raised in the public comments submitted in response to the Study. As previously stated, DOE does not intend to revise the Study in response to the comments received. Instead, both the 2024 LNG Export Study, and the comments will inform DOE's determination of the public interest in each of the above listed non-FTA export application proceedings and future non-FTA proceedings. DOE's response to comments and other Study materials are available electronically on DOE/FECM's website at: https://fossil.energy.gov/app/docketindex/docket/index/30.

Signing Authority

This document of the Department of Energy was signed on May 19, 2025, by Tala Goudarzi, Principal Deputy Assistant Secretary, Office of Fossil Energy and Carbon Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 19, 2025.
Treena V. Garrett,
Federal Register Liaison Officer, U.S. Department of Energy.

[FR Doc. 2025-09208 Filed 5-21-25; 8:45 am]

BILLING CODE 6450-01-P